DEPARTMENT OF ENERGY

Federal Energy Regulatory Commission

[Docket Nos. CP07-44-002; CP07-45-001]

Southeast Supply Header, LLC; Notice of Amendment Application

February 13, 2008.

On February 1, 2008, in Docket Nos. CP07-44-002 and CP07-45-001, Southeast Supply Header, LLC (SESH) pursuant to section 7(c) of the Natural Gas Act, as amended, and section 157 Subpart A of the Federal Energy Regulatory Commission's (Commission) regulations, filed to amend its certificate issued on September 20, 2007 in SESH, 120 FERC ¶ 61,257. The requested amendment would approve the proposed Hi Fields Lateral, consisting of an 11-mile 16-inch outside diameter natural gas lateral pipeline between the SESH mainline pipeline in Mobile County, Alabama and the Daniel Electric Generating Plant in Jackson County, Mississippi. The Hi Fields Lateral would cost $19.4 million. In order to place the facilities in service by November, 2008, SESH requests Commission issuance of the necessary authorizations and waivers on or before September 1, 2008.

Questions concerning this application should be directed to Brian D. O'Neill, at Dewy & LeBoeuf LLP, 1101 New York Avenue, NW., Suite 1100, Washington, DC 20005-4213 or by calling 202-986-8012.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 5, 2008.

Kimberly D. Bose,
Secretary.

[FR Doc. E8-3122 Filed 2-19-08; 8:45 am]

BILLING CODE 6717-01-P